DEPARTMENT OF ENERGY

Federal Energy Regulatory Commission

Combined Notice of Filings #1

Take notice that the Commission received the following electric corporate filings:

Docket Numbers: EC23-108-000

Applicants: Enfinity Global, Inc., American Falls Solar, LLC, American Falls Solar II, LLC, CSOLAR IV South, LLC, CSOLAR IV West, LLC.

Description: Joint Application for Authorization Under Section 203 of the Federal Power Act of Enfinity Global, Inc., et al.

Filed Date: 7/14/23.

Accession Number: 20230714-5232.

Comment Date: 5 p.m. ET 8/4/23.

Take notice that the Commission received the following electric rate filings:

Docket Numbers: ER19-59-001.

Applicants: Blue Cloud Wind Energy, LLC

Description: Notice of Non-Material Change in Status of Blue Cloud Wind Energy, LLC.

Filed Date: 7/14/23.

Accession Number: 20230714-5230

Comment Date: 5 p.m. ET 8/4/23.

Docket Numbers: ER22-2359-001.

Applicants: PJM Interconnection, L.L.C.

Description: Compliance filing: Order 881 & 881-A Compliance Filing to be effective 12/31/9998.

Filed Date: 7/18/23.

Accession Number: 20230718-5066.

Comment Date: 5 p.m. ET 8/8/23.

Docket Numbers: ER23-425-003.

Applicants: PJM Interconnection, L.L.C.

Description: Tariff Amendment: Amendment of Amended WMPA, SA No. 6062; Queue No. AG1-253; Docket No. ER23-425 to be effective 1/16/2023.

Filed Date: 6/2/23.

Accession Number: 20230602-5219.

Comment Date: 5 p.m. ET 7/24/23.

Docket Numbers: ER23-1718-000.

Applicants: Pacific Gas and Electric Company.

Description: Refund Report: CCSF Refund Report for missed unmetered Points (WDT SA 275) ER23-1718 to be effective N/A.

Filed Date: 7/18/23.

Accession Number: 20230718-5117.

Comment Date: 5 p.m. ET 8/8/23.

Docket Numbers: ER23-1734-000; ER23-1733-000.

Applicants: SFE Energy Massachusetts, Inc., SFE Energy, Inc.

Description: Refund Report of SFE Energy, Inc., et al.

Filed Date: 7/17/23.

Accession Number: 20230717-5222.

Comment Date: 5 p.m. ET 8/7/23.

Docket Numbers: ER23-2419-000.

Applicants: PJM Interconnection, L.L.C.

Description: § 205(d) Rate Filing: Original ISA, Service Agreement No. 6992; Queue No. AF2-361 to be effective 6/15/2023.

Filed Date: 7/17/23.

Accession Number: 20230717-5136.

Comment Date: 5 p.m. ET 8/7/23.

Docket Numbers: ER23-2420-000.

Applicants: PJM Interconnection, L.L.C.

Description: § 205(d) Rate Filing: Original IISA, SA No. 6979 and ICSA, SA No. 6986; Queue No. AG1-153 to be effective 6/16/2023.

Filed Date: 7/17/23.

Accession Number: 20230717-5161.

Comment Date: 5 p.m. ET 8/7/23.

Docket Numbers: ER23-2421-000.

Applicants: PJM Interconnection, L.L.C.

Description: § 205(d) Rate Filing: Original WMPA, Service Agreement Number 6983; Queue No. AF1-153 to be effective 9/18/2023.

Filed Date: 7/17/23.

Accession Number: 20230717-5172

Comment Date: 5 p.m. ET 8/7/23.

Docket Numbers: ER23-2422-000.

Applicants: Arizona Public Service Company.

Description: Petition for Waiver of Arizona Public Service Company.

Filed Date: 7/14/23.

Accession Number: 20230714-5236.

Comment Date: 5 p.m. ET 8/4/23.

Docket Numbers: ER23-2423-000.

Applicants: Midcontinent Independent System Operator, Inc.

Description: § 205(d) Rate Filing: 2023-07-18_SA 4124 NIPSCO-Malden Solar GIA (J1447) to be effective 9/17/2023.

Filed Date: 7/18/23.

Accession Number: 20230718-5047.

Comment Date: 5 p.m. ET 8/8/23.

Docket Numbers: ER23-2424-000.

Applicants: Duke Energy Progress, LLC.

Description: Tariff Amendment: DEP-DEP—Notice of Termination SA-419 to be effective 9/16/2023.

Filed Date: 7/18/23.

Accession Number: 20230718-5091.

Comment Date: 5 p.m. ET 8/8/23.

Docket Numbers: ER23-2425-000.

Applicants: Virginia Electric and Power Company, PJM Interconnection, L.L.C.

Description: § 205(d) Rate Filing: Virginia Electric and Power Company submits tariff filing per 35.13(a)(2)(iii: VEPCO submits one WDSA, SA No. 6997 to be effective 6/26/2023.

Filed Date: 7/18/23.

Accession Number: 20230718-5092.

Comment Date: 5 p.m. ET 8/8/23.

Docket Numbers: ER23-2426-000.

Applicants: Pattern Energy Management Services LLC.

Description: § 205(d) Rate Filing: Revised Market-Based Rate Tariff with Waiver Requests to be effective 7/19/2023.

Filed Date: 7/18/23.

Accession Number: 20230718-5095.

Comment Date: 5 p.m. ET 8/8/23.

Take notice that the Commission received the following open access transmission tariff filings:

Docket Numbers: OA04-2-002.

Applicants: MORENCI WATER AND ELECTRIC CO.

Description: Amendment to Application for Disclaimer of Jurisdiction and Waiver of the Reciprocity Requirement under Order Nos. 888 and 889 for The Morenci Water Electric Company.

Filed Date: 7/14/23.

Accession Number: 20230714-5227.

Comment Date: 5 p.m. ET 8/4/23.

Take notice that the Commission received the following electric reliability filings:

Docket Numbers: RR22-4-003.

Applicants: North American Electric Reliability Corporation.

Description: Request of the North American Electric Reliability Corporation to expend funds from the Assessment Stabilization Reserve to fund the Inter-Regional Transfer Capability Study.

Filed Date: 7/14/23.

Accession Number: 20230714-5231.

Comment Date: 5 p.m. ET 7/24/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: July 18, 2023.
Debbie-Anne A. Reese,
Deputy Secretary.

[FR Doc. 2023-15601 Filed 7-21-23; 8:45 am]

BILLING CODE 6717-01-P